DEPARTMENT OF TRANSPORTATION

Federal Aviation Administration

[Docket # FAA-2025-1056]

Airport Terminal Program; FY 2026 Funding Opportunity

AGENCY: Federal Aviation Administration (FAA), Department of Transportation (DOT).

ACTION: Notice of funding opportunity.

SUMMARY: The Department of Transportation (DOT), Federal Aviation Administration (FAA) announces the opportunity to apply for approximately $1 billion in Fiscal Year (FY) 2026 competitive funds for the Airport Terminal Program (ATP), made available under the Infrastructure Investment and Jobs Act of 2021 (IIJA), Pub. L. 117-58. The FY 2026 ATP announcement will be the final announcement for this program. The purpose of the ATP is to make annual grants available to eligible airports for airport terminal and airport-owned Airport Traffic Control Tower (ATCT) development projects that address the aging infrastructure of our nation's airports.

DATES: Airport sponsors seeking consideration for FY 2026 ATP Competitive Grant Program funding should submit FAA Form 5100-144 as soon as possible, but no later than 5:00 p.m. Eastern Time on, January 15, 2026.

ADDRESSES: Submit applications electronically at https://www.faa.gov/iija/airport-terminals by following the instructions under Frequently Asked Questions, “How to apply.”

FOR FURTHER INFORMATION CONTACT: Dan Neumann, Acting Manager, FAA Office of Airports IIJA Infrastructure Branch (APP-540), at (202)267-8328 or IIJA.Airports@faa.gov.

SUPPLEMENTARY INFORMATION: IIJA established the ATP as a competitive grant program which provides approximately $1 billion in grant funding annually for five years (FYs 2022-2026) to upgrade, modernize, and rebuild our nation's airport terminals and airport-owned ATCTs. This funding opportunity (FY 2026) is for the final year in which ATP will be available.

The full text of the Notice of Funding Opportunity (NOFO) is available on the FAA's website at https://www.faa.gov/iija/airport-terminals. For more information applicants may also search Grants.gov using Funding Opportunity Number FAA-ARP-IIJA-G-26-001 or Assistance Listing Number 20.118. Mail and fax submissions will not be accepted.

Issued in Washington, DC, on December 9, 2025
Dan Neumann,
Acting Manager, FAA Office of Airports IIJA Infrastructure Branch, APP-540.

[FR Doc. 2025-22526 Filed 12-10-25; 8:45 am]

BILLING CODE 4910-13-P